DEPARTMENT OF LABOR

Employment and Training Administration

[TA-W-52,712]

Maytag Appliances, Amana, IA, Notice of Termination of Investigation

Pursuant to section 221 of the Trade Act of 1974, as amended, an investigation was initiated on September 2, 2003, in response to a worker petition filed by a company official on behalf of workers at Maytag Appliances, Amana, Iowa.

The petitioner has requested that the petition be withdrawn. Consequently, the investigation has been terminated.

Signed at Washington, DC this 9th day of October 2003.
Richard Church,
Certifying Officer, Division of Trade Adjustment Assistance.

[FR Doc. 03-29118 Filed 11-20-03; 8:45 am]

BILLING CODE 4510-30-P